DEPARTMENT OF THE INTERIOR

National Park Service

Minor Boundary Revision at Lewis and Clark National Historical Park

AGENCY: National Park Service.

ACTION: Notification of boundary revision.

SUMMARY: Notice is hereby given that, pursuant to 16 U.S.C. 460l-(9)(c)(1), the boundary of Lewis and Clark National Historical Park, Clatsop County, Oregon, is modified to include an additional three tracts totaling 7.94 acres of land. These lands are adjacent to the northwestern boundary of the Fort Clatsop unit of the park and are depicted on a map entitled “Lewis and Clark National Historical Park Proposed Boundary,” dated November 2007, and numbered 405/80,028.

FOR FURTHER INFORMATION CONTACT: National Park Service, Chief, Columbia Cascades Land Resources Program Center, 168 South Jackson Street, Seattle, Washington 98104, (206) 220-4100. The map depicting the revision is on file and available for inspection at this address. Before including your address, phone number, or other personal identifying information in your comment, please be aware that your entire comment, including your personal information, may be made publicly available at any time.

DATES: The effective date of this boundary revision is June 9, 2008.

SUPPLEMENTARY INFORMATION: Inclusion of these lands within the park boundary will enable willing land owners to sell and convey interests in the subject land to the National Park Service. The lands are suitable to serve expanded public visitor uses and provide a western trailhead entrance for the park's “Fort-to-Sea Trail.” Additionally, the boundary revision will afford greater protection of park resources.

Dated: January 7, 2008.
Jonathan B. Jarvis,
Regional Director, Pacific West Region.

Editorial Note: This document was received at the Office of the Federal Register on June 4, 2008.

[FR Doc. E8-12841 Filed 6-6-08; 8:45 am]

BILLING CODE 4310-C1-P